ANTITRUST MODERNIZATION COMMISSION

Notice of Public Hearings

AGENCY: Antitrust Modernization Commission.

ACTION: Notice of public hearings.

SUMMARY: The Antitrust Modernization Commission will hold public hearings on September 29, 2005. The topics of the hearings are the State Action Doctrine and Exclusionary Conduct.

DATES: September 29, 2005, 9:30 a.m. to 11:30 a.m. and 12:45 p.m. to 5 p.m. Interested members of the public may attend. Registration is not required.

ADDRESSES: Federal Trade Commission, Headquarters Room 432, 600 Pennsylvania Avenue, NW., Washington, DC.

FOR FURTHER INFORMATION CONTACT: Andrew J. Heimert, Executive Director & General Counsel, Antitrust Modernization Commission: telephone: (202) 233-0701; e-mail: info@amc.gov. Mr. Heimert is also the Designated Federal Officer (DFO) for the Antitrust Modernization Commission.

SUPPLEMENTARY INFORMATION: The purpose of these hearings is for the Antitrust Modernization Commission to take testimony and receive evidence regarding the State Action Doctrine and Exclusionary Conduct. The hearing on the State Action Doctrine will consist of one panel. It will begin at 9:30 a.m. and conclude at 11:30 a.m. The hearing on Exclusionary Conduct will consist of two panels. The first panel will begin at 12:45 p.m. and run until 2:45 p.m. The second panel will run from 3 p.m. to 5 p.m. Materials relating to the hearings, including lists of witnesses and the prepared statements of the witnesses, will be made available on the Commission's Web site (http://www.amc.gov) in advance of the hearings.

Interested members of the public may submit written testimony on the subject of the hearing in the form of comments, pursuant to the Commission's request for comments. See 70 FR 28902 (May 19, 2005). Members of the public will not be provided with an opportunity to make oral remarks at the hearings.

The AMC is holding this hearing pursuant to its authorizing statute. Antitrust Modernization Commission Act of 2002, Pub. L. 107-273, section 11057(a), 116 Stat. 1758, 1858.

Dated: September 2, 2005.
By direction of the Antitrust Modernization Commission.
Andrew J. Heimert,
Executive Director & General Counsel, Antitrust Modernization Commission.

[FR Doc. 05-17812 Filed 9-7-05; 8:45 am]

BILLING CODE 6820-YH-P